DEPARTMENT OF TRANSPORTATION

Federal Transit Administration

Notice of Limitation on Claims Against Proposed Public Transportation Projects; Correction

AGENCY: Federal Transit Administration (FTA), DOT.

ACTION: Notice; correction.

SUMMARY: The Federal Transit Administration (FTA) published a notice in the Federal Register of August 17, 2006, concerning limitations on claims for certain specified public transportation projects. The notice contained an incorrect date.

FOR FURTHER INFORMATION CONTACT: Joseph Ossi, Environmental Protection Specialist, Office of Planning and Environment, 202-366-1613. FTA is located at 400 Seventh Street, SW., Washington, DC 20590. Office hours are from 9 a.m. to 5:30 p.m., e.t., Monday through Friday, except Federal holidays.

Correction

In the Federal Register of August 17, 2006, in FR Doc. E6-13533, on page 47561, in the third column, correct the DATES caption to read:

Dates: By this notice, FTA is advising the public of final agency actions subject to Title 23 United States Code (USC) § 139(l). A claim seeking judicial review of the FTA actions announced herein for the listed public transportation projects will be barred unless the claim is filed on or before February 26, 2007.

Dated: August 23, 2006.
David B. Simpson,
Acting Associate Administrator for Planning and Environment.

[FR Doc. E6-14314 Filed 8-28-06; 8:45 am]

BILLING CODE 4910-57-P